DEPARTMENT OF ENERGY

Federal Energy Regulatory Commission

[Docket Nos. CP17-441-000 and CP17-441-001]

Northwest Pipeline LLC; Notice of Schedule for Environmental Review of the North Seattle Lateral Upgrade Project

On May 11, 2017, Northwest Pipeline LLC (Northwest) filed an application with the Federal Energy Regulatory Commission (Commission or FERC) in docket number CP17-441-000 requesting a Certificate of Public Convenience and Necessity pursuant to Sections 7(b) and 7(c) of the Natural Gas Act to construct and operate certain natural gas pipeline facilities. The proposed project is known as the North Seattle Lateral Upgrade Project (Project), and would replace an existing 8-inch-diameter pipeline with a 20-inch-diameter pipeline, increasing the design capacity on Northwest's system to serve Puget Sound Energy.

On October 23, 2017, Northwest filed an amendment to its application, and on November 2, 2017, the Commission the issued a Notice of Amendment to the Application for the revised Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA: February 12, 2018.

90-day Federal Authorization Decision Deadline: May 13, 2018.

If a schedule change becomes necessary, additional notice will be provided so that the relevant agencies are kept informed of the Project's progress.

Project Description

Northwest proposes to remove approximately 5.8 miles of the 8-inch-diameter North Seattle Lateral pipeline in Snohomish County, Washington and replace it with 20-inch-diameter pipeline, primarily in the same trench. The North Seattle Lateral Upgrade Project would consist of the following facilities:

• Replace 5.8-miles of 8-inch-diameter pipeline with 20-inch-diameter pipeline;

• rebuild the existing North Seattle/Everett meter station in order to accommodate the increased delivery capacity of the North Seattle Lateral;

• relocate an existing 8-inch pig launcher and a 20-inch pig receiver; ¹ and

¹ A pig is a tool that the pipeline company inserts into and pushes through the pipeline for cleaning the pipeline, conducting internal inspections, or other purposes.

• replace an existing 8-inch mainline valve with a 20-inch valve.

Background

On June 21, 2017, the FERC issued a Notice of Intent to Prepare an Environmental Assessment for the Proposed North Seattle Lateral Upgrade Project, Request for Comments on Environmental Issues, and Notice of Public Scoping Session (NOI) in Docket No. CP17-441-000. The NOI was mailed to 409 parties, including affected landowners; federal, state, and local government representatives and agencies; elected officials; environmental and public interest groups; Native American tribes; other interested parties; and local libraries. We also held a public scoping comment session in the Project area on July 13, 2017.

The primary issues raised by commenters were impacts on residences (including noise, dust, drainage, and vegetation clearing), biological and water resources impacts, alternative routings for crossing the Fritch Mill property, pipeline safety, and impacts on adjacent utility easements and infrastructure.

On October 23, 2017 Northwest amended its application, reducing the Project's incremental firm capacity from 196,311 to 159,299 dekatherms per day; reducing the length of the replacement 20-inch-diameter pipeline by about 1 mile; locating the replacement pig launcher/receiver at milepost 7.76; and changing the pipeline route between mileposts 2.1 and 2.2 so as to divert its pipeline system around the Fritch Mill. Accordingly, on November 21, 2017 we issued a Supplemental Notice of Intent to Prepare an Environmental Assessment for the Amended North Seattle Lateral Upgrade Project and Request for Comments on Environmental Issues (NOI) in Docket No. CP17-441-001. The Supplemental NOI was mailed to 312 parties, including affected landowners; federal, state, and local government representatives and agencies; elected officials; environmental and public interest groups; Native American tribes; other interested parties; and local libraries.

Comments on the Supplemental NOI concerned the need for relocating the pipeline off the existing right-of-way; impacts to springs, wetlands, and mature forest from the newly routed segment, and alternatives.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP17-441), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: January 5, 2018.
Kimberly D. Bose,
Secretary.

[FR Doc. 2018-00328 Filed 1-10-18; 8:45 am]

BILLING CODE 6717-01-P